DEPARTMENT OF TRANSPORTATION

National Highway Traffic Safety Administration

[NHTSA-2013-0117]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Comments must be received on or before January 21, 2014.

ADDRESSES: Direct all written comments to U.S. Department of Transportation Dockets, 1200 New Jersey Ave. SE., Washington, DC 20590.

FOR FURTHER INFORMATION CONTACT: David Bonelli, Office of Chief Counsel, NCC-110, telephone (202) 366-1834, fax (202) 366-3820; NHTSA, 1200 New Jersey Ave. SE., Washington, DC 20590.

SUPPLEMENTARY INFORMATION: Under the Paperwork Reduction Act of 1995, before an agency submits a proposed collection of information to OMB for approval, it must first publish a document in the Federal Register providing a 60-day comment period and otherwise consult with members of the public and affected agencies concerning each proposed collection of information. OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following proposed collection of information:

Title: Designation of Agent for Service of Process.

OMB Control Number: 2127-0040.

Requested Expiration Date of Approval: Three years from the approval date.

Type of Request: Extension of previously approved collection.

Affected Public: Business or other for-profit.

Form Number: N/A.

Abstract: This collection of information applies to motor vehicle and motor vehicle equipment manufacturers located outside of the United States (“foreign manufacturers”). Section 110(e) of the National Traffic and Motor Vehicle Safety Act of 1966 (49 U.S.C. § 30164) requires a foreign manufacturer offering a motor vehicle or motor vehicle equipment for importation into the United States to designate a permanent resident of the United States as its agent upon whom service of notices and processes may be made in administrative and judicial proceedings. These designations are required to be filed with NHTSA. NHTSA requires this information in case it needs to advise a foreign manufacturer of a safety related defect in its products so that the manufacturer can, in turn, notify purchasers and correct the defect. This information also enables NHTSA to serve a foreign manufacturer with all administrative and judicial processes, notices, orders, decisions and requirements.

When NHTSA amended the regulation implementing that statutory requirement, codified at 49 CFR part 551, subpart D, NHTSA included an appendix containing a suggested designation form for use by foreign manufacturers and their agents. The purpose of the suggested designation format was to simplify the information collection and submission process, and thereby reduce the burden imposed on each covered manufacturer by 49 CFR Part 551, subpart D. To further streamline the information collection process, NHTSA has set up a customer Web site that may be accessed at http://www.nhtsa.dot.gov/cars/rules/manufacture/agent/customer.html.

Estimated Annual Burden: 120 hours.

Estimated Number of Respondents: 240 respondents.

The Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

David Bonelli,
Attorney Advisor, Legislation and General Law.

[FR Doc. 2013-27805 Filed 11-19-13; 8:45 am]

BILLING CODE 4910-59-P